CONSUMER PRODUCT SAFETY COMMISSION

[Docket No. CPSC-2009-0088]

Agency Information Collection Activities; Submission for OMB Review; Comment Request; Third Party Conformity Assessment Body Registration Form

AGENCY: Consumer Product Safety Commission.

ACTION: Notice.

SUMMARY: As required by the Paperwork Reduction Act of 1995, the Consumer Product Safety Commission (CPSC or Commission) announces that it has submitted a request for extension of approval for information collection requirements to the Office of Management and Budget (OMB). The request concerns notification requirements applicable to third party conformity assessment bodies. OMB previously approved the collection of information under OMB Control No. 3041-0143. On October 6, 2022, CPSC published a notice in the Federal Register to announce the agency's intention to seek extension of approval of the collection of information. The Commission received no comments. Therefore, by publication of this notice, the Commission announces that CPSC has submitted to the OMB a request for extension of approval of this collection of information.

DATES: Submit written or electronic comments on the collection of information by January 13, 2023.

ADDRESSES: Written comments and recommendations for the proposed information collection should be sent within 30 days of publication of this notice to OMB at: www.reginfo.gov/public/do/PRAMain. Find this particular information collection by selecting “Currently under 30-day Review—Open for Public Comments” or by using the search function. In addition, written comments that are sent to OMB also should be submitted electronically at: http://www.regulations.gov, under Docket No. CPSC-2009-0088.

FOR FURTHER INFORMATION CONTACT: Cynthia Gillham, Consumer Product Safety Commission, 4330 East West Highway, Bethesda, MD 20814; (301) 504-7991, or by email to: cgillham@cpsc.gov.

SUPPLEMENTARY INFORMATION: On October 6, 2022, CPSC published a notice in the Federal Register to announce the agency's intention to seek extension of approval of the collection of information. 87 FR 60660. The Commission received no comments. Accordingly, CPSC seeks renewal approval for the following collection of information:

Title: Third party conformity assessment bodies seeking acceptance of accreditation or continuing accreditation.

OMB Number: 3041-0143.

Type of Review: Renewal of collection.

Frequency of Response: On occasion.

Affected Public: Third party conformity assessment bodies seeking acceptance of accreditation or continuing accreditation.

Estimated Burden: The CPSC estimates the burden of the collection of information in the Consumer Product Conformity Assessment Body Registration Form (CPSC Form 223) is as follows:

Estimated Annual Reporting Burden
Activity | Number of respondents | Frequency of responses | Total annual responses | Hours per response | Total hours
Initial Registration | 26 | 1 | 26 | 1 | 26
Re-Registration | 303 | 1 | 303 | 1 | 303
Changes in Information | 2 | 1 | 2 | 0.25 | 0.5
Total |  |  |  |  | 329.5

These estimates are based on the following information:

• Based on applications received from FY 2013 to date, we estimate the number of third party conformity assessment bodies that would register each year for the next 3 years would be 26.

• Under 16 CFR part 1112, third party conformity assessment bodies are required to resubmit CPSC Form 223 every 2 years. As all third party conformity assessment bodies have not submitted their first CPSC Form 223s at the same time, only about half would be expected to resubmit a CPSC Form 223 in any 1 year. As of August 2022, 606 third party conformity assessment bodies have registered with CPSC. Therefore, approximately 303 of these firms would be expected to reregister with CPSC each year.

• Under 16 CFR part 1112, third party conformity assessment bodies are required to ensure that the information submitted on CPSC Form 223 is current and must submit a new CPSC Form 223 whenever the information changes. Based on current experience with third party conformity assessment bodies, we estimate that each year 2 third party conformity assessment bodies will make revisions to update their information. A change in information is a change that does not require review of laboratory accreditation documents, such as scope or test methods. Examples of revised information include changes in the website URL, name of the laboratory, and name of laboratory point of contact.

The total burden, therefore, is 329.5 hours, which we round up to 330 hours. We estimate that hourly compensation for the time required for recordkeeping is $36.59 per hour (U.S. Bureau of Labor Statistics, “Employer Costs for Employee Compensation (ECEC),” Table 4: Total compensation for private industry workers in sales and office occupations within goods-producing industries, June 2022, public news release url: www.bls.gov/news.release/archives/ecec_09202022.pdf). The total cost burden to the respondents is approximately $12,075 ($36.59 × 330 hours = $12,074.70).

General Description of Collection: The Consumer Product Safety Improvement Act of 2008 (CPSIA) requires third party testing to be conducted by a third party conformity assessment body for any children's product that is subject to a children's product safety rule, before importing for consumption or warehousing or distributing in commerce. The CPSIA allows accreditation of third party conformity assessment bodies to be conducted either by the Commission, or by an independent accreditation organization designated by the Commission. In addition, the CPSIA requires that the Commission maintain on its website an up-to-date list of entities that have been accredited to assess conformity with children's product safety rules. With the exception of firewalled third party conformity assessment bodies, which must be approved by Commission order, as stated in 16 CFR 1112.13(b), the Commission has chosen to accept the accreditation of third party conformity assessment bodies that meet accreditation requirements of an independent accreditation organization. 16 CFR 1112.13(a).

To assess a third party conformity assessment body's qualifications for acceptance by CPSC, information related to location, accreditation, and ownership must be collected from third party conformity assessment bodies. The CPSC uses an online collection form, CPSC Form 223, to gather information from third party conformity assessment bodies voluntarily seeking acceptance by CPSC. The information collected relates to location, accreditation, and ownership. Commission staff uses this information to assess:

• A third party conformity assessment body's status as an independent third party conformity assessment body, a government-owned or government-controlled conformity assessment body, or a firewalled conformity assessment body;

• Qualifications for acceptance by CPSC to test for compliance to specified children's product safety rules; and

• Eligibility for acceptance on the CPSC website.

Part 1112 requires the collection of information in CPSC Form 223:

• Upon initial application by the third party conformity assessment body for acceptance by CPSC;

• Whenever there is a change to accreditation or ownership information; and

• At least every 2 years as part of a regular audit process.

Alberta E. Mills,
Secretary, Consumer Product Safety Commission.

[FR Doc. 2022-27100 Filed 12-13-22; 8:45 am]

BILLING CODE 6355-01-P